DEPARTMENT OF VETERANS AFFAIRS

Veterans' Disability Benefits Commission; Notice of Meeting

The Department of Veterans Affairs (VA) gives notice under Pub. L. 92-463 (Federal Advisory Committee Act) that the Veterans' Disability Benefits Commission has scheduled a meeting for Thursday, November 17, 2005, and Friday, November 18, 2005, in hearing room 340, House Committee on Veterans' Affairs, Cannon House Office Building, Washington, DC. The meeting will begin each day at 9 a.m. and end at 4 p.m. The meeting is open to the public.

The purpose of the Commission is to carry out a study of the benefits under the laws of the United States that are provided to compensate and assist veterans and their survivors for disabilities and deaths attributable to military service.

The agenda for the meeting will include a review of the Statement of Work for contracting with the Center for Naval Analyses for Commission approval and a discussion of potential field hearings to be conducted by Commission members during calendar year 2006.

Interested persons may attend and present oral statements to the Commission. Time for oral presentations will be limited to five minutes or less, depending on the number of participants. Interested parties may provide written comments for review by the Commission prior to the meeting, by e-mail to: veterans@vetscommision.intranets.com or by mail to: Mr. Ray Wilburn, Executive Director, Veterans' Disability Benefits Commission, 1101 Pennsylvania Avenue, NW., 5th Floor, Washington, DC 20004.

Dated: October 25, 2005.
By direction of the Secretary.
E. Philip Riggin,
Committee Management Officer.

[FR Doc. 05-21775 Filed 11-1-05; 8:45 am]

BILLING CODE 8320-01-M